DEPARTMENT OF TRANSPORTATION

Pipeline and Hazardous Materials Safety Administration

[Docket No. PHMSA-2016-0136]

Pipeline Safety: Meeting of the Gas Pipeline Safety Advisory Committee

AGENCY: Pipeline and Hazardous Materials Safety Administration (PHMSA), DOT.

ACTION: Notice; Advisory Committee meeting reschedule.

SUMMARY: This notice announces that the public meeting of the Technical Pipeline Safety Standards Committee, also known as the Gas Pipeline Advisory Committee (GPAC), scheduled for December 7-8, 2016, has been rescheduled for January 11-12, 2017. Notice of the original meeting appeared in the Federal Register on November 22, 2016, (81 FR 83795).

DATES: The postponed meeting was scheduled for 8:30 a.m. to 5:00 p.m. EST on both December 7, 2016, and December 8, 2016. The rescheduled meeting will take place from 8:30 a.m. to 5:00 p.m. on both January 11, 2017, and January 12, 2017.

The meetings will not be web cast; however, presentations will be available on the meeting Web site and posted on the E-Gov Web site: http://www.regulations.gov under docket number PHMSA-2016-0136 within 30 days following the meeting.

ADDRESSES: The meeting will be held at the Hilton Arlington, 950 North Stafford Street, Arlington, VA, 22203. Additional information regarding hotel and meeting registration and the agenda will be published on the following pipeline advisory committee meeting and registration page: https://primis.phmsa.dot.gov/meetings/MtgHome.mtg?mtg=121.

Public Participation

This meeting will be open to the public. Members of the public who wish to attend in person are asked to register at: https://primis.phmsa.dot.gov/meetings/MtgHome.mtg?mtg=121 no later than January 4, 2017, in order to facilitate entry and guarantee seating. Members of the public who attend in person will also be provided opportunities to make statements during the meeting.

Written comments: Persons who wish to submit written comments on the meeting may be submitted to the docket in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-0001.

Hand Delivery: Room W12-140 on the ground level of the DOT West Building, 1200 New Jersey Avenue SE., Washington, DC, between 9:00 a.m. and 5:00 p.m., Monday through Friday, except on Federal holidays.

Instructions: Identify the docket number PHMSA-2016-0136 at the beginning of your comments. Note that all comments received will be posted without change to http://www.regulations.gov, including any personal information provided. Anyone can search the electronic form of all comments received into any of our dockets by the name of the individual submitting the comment (or signing the comment, if submitted on behalf of an association, business, labor union, etc.). Therefore, consider reviewing DOT's complete Privacy Act Statement in the Federal Register published on April 11, 2000, (65 FR 19477) or view the Privacy Notice at http://www.regulations.gov before submitting any such comments.

Docket: For access to the docket or to read background documents or comments, go to http://www.regulations.gov at any time or to Room W12-140 on the ground level of the DOT West Building, 1200 New Jersey Avenue SE., Washington, DC, between 9:00 a.m. and 5:00 p.m., Monday through Friday, except Federal holidays.

If you wish to receive confirmation of receipt of your written comments, please include a self-addressed, stamped postcard with the following statement: “Comments on PHMSA-2016- 0136.” The Docket Clerk will date stamp the postcard prior to returning it to you via the U.S. mail.

Privacy Act Statement

In accordance with 5 U.S.C. 553(c), DOT solicits comments from the public to better inform its rulemaking process. DOT posts these comments, without edit, including any personal information the commenter provides, to www.regulations.gov, as described in the system of records notice (DOT/ALL- 14 FDMS), which can be reviewed at www.dot.gov/privacy.

Services for Individuals with Disabilities: The public meeting will be physically accessible to people with disabilities. Individuals requiring accommodations, such as sign language interpretation or other ancillary aids, are asked to notify Cheryl Whetsel at cheryl.whetsel@dot.gov by December 30, 2016.

FOR FURTHER INFORMATION CONTACT: For information about the meeting, contact Cheryl Whetsel by phone at 202-366-4431 or by email at cheryl.whetsel@dot.gov.

SUPPLEMENTARY INFORMATION:

I. Meeting Details and Agenda

The GPAC will be discussing the proposed rule, “Safety of Gas Transmission and Gathering Pipelines” published in the Federal Register on April 8, 2016, (81 FR 20722), and the associated regulatory analysis. PHMSA is proposing changes to part 192 that include:

• Requiring periodic assessments of pipelines in locations where persons are expected to be at risk that are not already covered under the integrity management program requirements;

• Modifying the repair criteria, both inside and outside of high consequence areas;

• Requiring inspections of pipelines in areas affected by extreme weather, man-made and natural disasters, and other similar events;

• Providing additional specificity for in-line inspection, including explicit requirements to account for uncertainty of reported inspection data when evaluating in-line inspection data to identify anomalies;

• Expanding integrity assessment methods to explicitly address guided wave ultrasonic inspection and excavation with direct in-situ examination;

• Providing clearer functional requirements for conducting risk assessment for integrity management, including addressing seismic risk;

• Expanding the mandatory data collection and integration requirements for integrity management, including data validation and seismicity;

• Adding requirements to address Management of Change;

• Repealing the use of API 80 for gathering lines;

• Applying Type B requirements to newly regulated Type A gathering lines in Class 1 locations to > 8-inch along with emergency requirements (GAO Recommendation 14-667);

• Extending the reporting requirements to all gathering lines;

• Expanding requirements for corrosion protection to specify additional post-construction quality checks and periodic operational and maintenance checks to address coating integrity, cathodic protection, and gas quality monitoring;

• Requiring operators to report MAOP Exceedance;

• Requiring safety features on in-line inspection tool launchers and receivers;

• Adding certain types of roadways to definition of “identified sites” (NTSB P-14-1); and

• Addressing grandfathered pipe and pipe with inadequate records.

The agenda, once finalized, will be published on the meeting page.

II. Committee Background

The GPAC is a statutorily mandated advisory committee that advises PHMSA on proposed gas pipeline safety standards and risk assessments for transporting gas and for gas pipeline facilities. The committee is established in accordance with the Federal Advisory Committee Act (5 U.S.C. App. 2, as amended) and 49 U.S.C. 60115. The committee consists of 15 members—with membership evenly divided among the federal and state governments, the regulated industry, and the general public. The committees advise PHMSA on the technical feasibility, reasonableness, cost-effectiveness, and practicability of each proposed pipeline safety standard.

Issued in Washington, DC on December 2, 2016, under authority delegated in 49 CFR 1.97.
Alan K. Mayberry,
Acting Associate Administrator for Pipeline Safety.

[FR Doc. 2016-29360 Filed 12-6-16; 8:45 am]

BILLING CODE 4910-60-P